DEPARTMENT OF TRANSPORTATION

Federal Aviation Administration

14 CFR Part 39

[Docket No. 99-NM-304-AD; Amendment 39-11682; AD 2000-07-26]

RIN 2120-AA64

Airworthiness Directives; Airbus Model A300 Series Airplanes

AGENCY: Federal Aviation Administration, DOT.

ACTION: Final rule.

SUMMARY: This amendment adopts a new airworthiness directive (AD), applicable to certain Airbus Model A300 series airplanes, that requires a one-time detailed visual inspection to detect corrosion on the outer surface of the fuselage skin panel; application of corrosion preventive protection; and corrective action, if necessary. This amendment is prompted by issuance of mandatory continuing airworthiness information by a foreign civil airworthiness authority. The actions specified by this AD are intended to detect and correct corrosion of the fuselage skin panel, which could result in cracking and consequent reduced structural integrity of the airplane.

DATES: Effective May 23, 2000.

The incorporation by reference of certain publications listed in the regulations is approved by the Director of the Federal Register as of May 23, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A300 series airplanes was published in the Federal Register on January 3, 2000 (65 FR 91). That action proposed to require a one-time detailed visual inspection to detect corrosion on the outer surface of the fuselage skin panel; application of corrosion preventive protection; and corrective action, if necessary.

Comment Received

Interested persons have been afforded an opportunity to participate in the making of this amendment. Due consideration has been given to the single comment received.

Request to Reference Latest Service Bulletin Revision

One commenter, the manufacturer, requests that the proposed AD be revised to refer to Airbus Service Bulletin A300-53-0328, Revision 01, including Appendix 01, dated March 15, 2000, for accomplishment of the inspection. The original issue of the service bulletin, dated March 5, 1999, was referenced in the proposed AD as the appropriate source of service information. The commenter notes that the original issue of the service bulletin references a 30-month interval rather than the correct 5-year interval for certain follow-on repetitive inspections that are covered by the Corrosion Prevention Control Program (CPCP). The commenter suggests that referencing Revision 01 of the service bulletin, in which the correct interval is specified, will avoid confusion on the part of operators.

The FAA concurs. The FAA has reviewed the procedures described in Airbus Service Bulletin A300-53-0328, Revision 01, including Appendix 01, dated March 15, 2000, and has determined that they are equivalent to those described in the original issue of the service bulletin, except for certain cleaning procedures. The final rule has been revised to refer to Revision 01 of the service bulletin as the appropriate source of service information. However, a “NOTE” has been included in the final rule to provide credit for previous accomplishment of the actions required by this AD in accordance with the original issue of the service bulletin.

Conclusion

After careful review of the available data, including the comment noted above, the FAA has determined that air safety and the public interest require the adoption of the rule with the change described previously. The FAA has determined that this change will neither increase the economic burden on any operator nor increase the scope of the AD.

Cost Impact

The FAA estimates that 3 airplanes of U.S. registry will be affected by this AD, that it will take approximately 4 or 22 work hours per airplane, depending on the airplane configuration, to accomplish the required inspection, and that the average labor rate is $60 per work hour. Based on these figures, the cost impact of the AD on U.S. operators is estimated to be $240 or $1,320 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-07-26 Airbus Industrie: Amendment 39-11682. Docket 99-NM-304-AD.

Applicability: Model A300 series airplanes, certificated in any category; except those on which Airbus Modification 04201 has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct corrosion of the fuselage skin panel, which could result in cracking and consequent reduced structural integrity of the airplane, accomplish the following:

Inspection

(a) Perform a one-time detailed visual inspection of the outer surface of the fuselage skin panel between fuselage frames FR39 and FR40, and between stringers 27 and 33, for corrosion; in accordance with Airbus Service Bulletin A300-53-0328, Revision 01, including Appendix 01, both dated March 15, 2000. Perform the inspection at the applicable time specified in paragraph (a)(1), (a)(2), or (a)(3) of this AD. If any corrosion is found, prior to further flight, repair (i.e., rework corroded areas, or repair or replace panels, as applicable) in accordance with the service bulletin, except as provided by paragraph (b) of this AD. Temporary repairs must be replaced with permanent repairs prior to accumulation of the life limits specified in the service bulletin.

(1) For airplanes for which the date of manufacture was less than 15 years before the effective date of this AD: Inspect within 18 months after the effective date of this AD.

(2) For airplanes for which the date of manufacture was at least 15 but less than 20 years before the effective date of this AD: Inspect within 12 months after the effective date of this AD.

(3) For airplanes for which the date of manufacture was 20 or more years before the effective date of this AD: Inspect within 6 months after the effective date of this AD.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) Where Airbus Service Bulletin A300-53-0328, Revision 01, dated March 15, 2000, specifies that Airbus may be contacted for a repair, prior to further flight, replace the skin panel with a new or serviceable skin panel in accordance with the service bulletin.

Note 3: Accomplishment of the actions required by this AD in accordance with Airbus Service Bulletin A300-53-0328, dated March 5, 1999, prior to the effective date of this AD, is acceptable for compliance with the requirements of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Airbus Service Bulletin A300-53-0328, Revision 01, including Appendix 01, dated March 15, 2000. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 1999-209-281(B), dated May 19, 1999.

(f) This amendment becomes effective on May 23, 2000.

Issued in Renton, Washington, on April 6, 2000.
Donald L. Riggin,
Acting Manager, Transport Airplane Directorate, Aircraft Certification Service.

[FR Doc. 00-9112 Filed 4-17-00; 8:45 am]

BILLING CODE 4910-13-U